COMMISSION ON CIVIL RIGHTS

Agenda and Notice of Public Meeting of the New York Advisory Committee

Notice is hereby given, pursuant to the provisions of the rules and regulations of the U.S. Commission on Civil Rights, that a community forum will convene at 9:30 a.m. and adjourn at 5:30 p.m. on Wednesday, May 21, 2003, at the Greenberg Lounge, New York University Law School, 40 Washington Square South, New York, New York 10012. The purpose of the community forum is to discuss civil rights issues and Post-9/11 law enforcement-community relations in New York.

Persons desiring additional information, or planning a presentation to the Committee, should contact Aonghas St. Hilaire of the Eastern Regional Office at 202-376-7533 (TDD 202-376-8116. Hearing impaired persons who will attend the meeting and require the services of a sign language interpreter should contact the Regional office at least ten (10) working days before the scheduled date of the meeting.

The meeting will be conducted pursuant to the provisions of the rules and regulations of the Commission.

Dated at Washington, DC, April 24, 2003.
Ivy L. Davis,
Chief, Regional Programs Coordination Unit.

[FR Doc. 03-12644 Filed 5-15-03; 3:24 pm]

BILLING CODE 6335-01-M